DEPARTMENT OF COMMERCE

National Institute of Standards and Technology

National Institute of Standards and Technology (NIST); Smart Grid Advisory Committee Meeting

AGENCY: National Institute of Standards and Technology, Department of Commerce.

ACTION: Notice of open meeting.

SUMMARY: The National Institute of Standards and Technology (NIST) Smart Grid Advisory Committee (SGAC or Committee), will meet in open session on Wednesday, July 13, 2016 from 8:30 a.m. to 5:00 p.m. Eastern time and Thursday, July 14, 2016 from 8:30 a.m. to 12:00 p.m. Eastern time. This meeting was originally scheduled for January 26-27, 2016 and was rescheduled due to inclement weather. The primary purposes of this meeting are to provide updates on NIST Smart Grid and Cyber-Physical Systems Program activities and to discuss resiliency and reliability topics. The agenda may change to accommodate Committee business. The final agenda will be posted on the Smart Grid Web site at http://www.nist.gov/smartgrid.

DATES: The SGAC will meet on Wednesday, July 13, 2016 from 8:30 a.m. to 5:00 p.m. Eastern time and Thursday, July 14, 2016 from 8:30 a.m. to 12:00 p.m. Eastern time.

ADDRESSES: The meeting will be held in the Executive Conference Room, Building 101 (Administration), National Institute of Standards and Technology (NIST), 100 Bureau Drive, Gaithersburg, Maryland 20899. Please note admittance instructions under the SUPPLEMENTARY INFORMATION section of this notice.

FOR FURTHER INFORMATION CONTACT: Mr. Cuong Nguyen, Smart Grid and Cyber-Physical Systems Program Office, National Institute of Standards and Technology, 100 Bureau Drive, Mail Stop 8200, Gaithersburg, MD 20899-8200; telephone 301-975-2254, fax 301-948-5668; or via email at cuong.nguyen@nist.gov.

SUPPLEMENTARY INFORMATION: The Committee was established in accordance with the Federal Advisory Committee Act, as amended, 5 U.S.C. App. The Committee is composed of nine to fifteen members, appointed by the Director of NIST, who were selected on the basis of established records of distinguished service in their professional community and their knowledge of issues affecting Smart Grid deployment and operations. The Committee advises the Director of NIST in carrying out duties authorized by section 1305 of the Energy Independence and Security Act of 2007 (Pub. L. 110-140). The Committee provides input to NIST on Smart Grid standards, priorities, and gaps, on the overall direction, status, and health of the Smart Grid implementation by the Smart Grid industry, and on Smart Grid Interoperability Panel activities, including the direction of research and standards activities. Background information on the Committee is available at http://www.nist.gov/smartgrid/committee.cfm.

Pursuant to the Federal Advisory Committee Act, as amended, 5 U.S.C. App., notice is hereby given that the NIST Smart Grid Advisory Committee (SGAC or Committee) will meet in open session on Wednesday, July 13, 2016 from 8:30 a.m. to 5:00 p.m. Eastern time and Thursday, July 14, 2016 from 8:30 a.m. to 12:00 p.m. Eastern time. This meeting was originally scheduled for January 26-27, 2016 and was rescheduled due to inclement weather. The meeting will be open to the public and held in the Executive Conference Room, Building 101 (Administration) at NIST in Gaithersburg, Maryland. The primary purposes of this meeting are to provide updates on NIST Smart Grid activities and the intersections with Cyber-Physical System program activities and to discuss resiliency and reliability topics. The agenda may change to accommodate Committee business. The final agenda will be posted on the Smart Grid Web site at http://www.nist.gov/smartgrid.

Individuals and representatives of organizations who would like to offer comments and suggestions related to the Committee's affairs are invited to request a place on the agenda by submitting their request to Cuong Nguyen at cuong.nguyen@nist.gov or (301) 975-2254 no later than 5:00 p.m. Eastern time, Friday, July 1, 2016. On Thursday, July 14, 2016, approximately one-half hour will be reserved at the end of the meeting for public comments, and speaking times will be assigned on a first-come, first-serve basis. The amount of time per speaker will be determined by the number of requests received, but is likely to be about three minutes each. Questions from the public will not be considered during this period. Speakers who wish to expand upon their oral statements, those who had wished to speak but could not be accommodated on the agenda, and those who were unable to attend in person are invited to submit written statements to Mr. Cuong Nguyen, Smart Grid and Cyber-Physical Systems Program Office, National Institute of Standards and Technology, 100 Bureau Drive, Mail Stop 8200, Gaithersburg, MD 20899-8200; telephone 301-975-2254, fax 301-948-5668; or via email at cuong.nguyen@nist.gov.

All visitors to the NIST site are required to pre-register to be admitted. Anyone wishing to attend this meeting must register by 5:00 p.m. Eastern time, Friday, July 1, 2016, in order to attend. Please submit your full name, time of arrival, email address, and phone number to Cuong Nguyen. Non-U.S. citizens must submit additional information; please contact Mr. Nguyen. Mr. Nguyen's email address is cuong.nguyen@nist.gov and his phone number is (301) 975-2254. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license.

For detailed information, please contact Mr. Nguyen or visit: http://www.nist.gov/public_affairs/visitor/.

Kent Rochford,
Associate Director for Laboratory Programs.

[FR Doc. 2016-14580 Filed 6-20-16; 8:45 am]

BILLING CODE 3510-13-P